DEPARTMENT OF THE TREASURY

Submission for OMB Review; Comment Request

August 29, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 6, 2005 to be assured of consideration.

Financial Crimes Enforcement Network (FinCEN)

OMB Number: 1506-0015.

Type of Review: Revision.

Title: Suspicious Activity Report by Money Services Business.

Form: FinCEN form 109.

Description: Regulations under 31 CFR 103.20 require Money Services Business's to report suspicious transactions to the Department of Treasury.

Respondents: Business or other for-profit and Not-for-profit institution.

Estimated Total Reporting Burden: 720,000 hours.

Clearance Officer: Russell Stephenson (202) 354-6012. Financial Crimes Enforcement Network, Suite 200, 2070 Chain Bridge Road, Vienna, VA 22182.

OMB Reviewer: Alexander T. Hunt (202) 395-7316. Office of Management and Budget, Room 10235, New Executive Office Building, Washington, DC 20503.

Michael A. Robinson,
Treasury PRA Clearance Officer.

[FR Doc. 05-17564 Filed 9-2-05; 8:45 am]

BILLING CODE 4810-02-P